DEPARTMENT OF EDUCATION

Submission for OMB Review; Comment Request

AGENCY: Department of Education.

SUMMARY: The Acting Director, Information Collection Clearance Division, Regulatory Information Management Services, Office of Management invites comments on the submission for OMB review as required by the Paperwork Reduction Act of 1995.

DATES: Interested persons are invited to submit comments on or before June 25, 2010.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Acting Director, Information Collection Clearance Official, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: May 21, 2010.
James Hyler,
Acting Director, Information Collection Clearance Official, Regulatory Information Management Services, Office of Management.

Office of Innovation and Improvement

Type of Review: Extension.

Title: Open Innovation Web Portal.

Frequency: On Occasion.

Affected Public: Businesses or other for-profit; Federal Government; Individuals or household; Not-for-profit institutions; State, Local, or Tribal Gov't, SEAs or LEAs.

Reporting and Recordkeeping Hour Burden:

Responses: 4,850.

Burden Hours: 12,327.

Abstract: The U.S. Department of Education's (ED) Office of Innovation and Improvement (OII) has developed a Web-based platform, the Open Innovation Web Portal (Portal), to support communication and collaboration among a wide range of key education stackholders, including practitioners, funders, and the general public. This platform, which is currently operating under emergency clearance, allows geographically dispersed but like-minded entities to discover each other and work together to address some of the most intractable challenges in education. OII promotes this platform as a tool for use with the Investing in Innovation grant program (i3), which was established as the “Innovation Fund” in the “American Recovery and Reinvestment Act of 2009” (ARRA), signed into law by the President on February 17, 2009. This new program will provide $650,000,000 in competitive grants to Local Education Agencies (LEAs), non-profit organizations working in collaboration with LEAs, or non-profit organizations working in collaboration with a consortium of schools. The Department must obligate funds to i3 grantees before the end of the fiscal year 2010, September 30, 2010. The Department also plans for the Portal to remain operational after i3 funding is awarded so that there is an ongoing community that focuses on innovation in education. Part of our intent in implementing the i3 program is to identify innovative new approaches proposed by individuals and organizations that have previously had limited experience in obtaining grants in the education sector yet have promising evidence-based ideas for improving American education. These applicants in particular face challenges in identifying schools or LEAs with which to partner given their limited experience in the field. Further, organizations without existing relationships in education may find it difficult to secure the private sector matching funds required of all grantees under ARRA. Receiving OMB's approval for an extension Receiving OMB's approval for an extension of the PRA clearance will allow continued operation of the Portal, which currently has over 3000 members, and support improved student achievement through school improvement and reform, a key departmental goal.

Requests for copies of the information collection submission for OMB review may be accessed from http://edicsweb.ed.gov, by selecting the “Browse Pending Collections” link and by clicking on link number 4305. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. 2010-12654 Filed 5-25-10; 8:45 am]

BILLING CODE 4000-01-P